DEPARTMENT OF LABOR

Employment and Training Administration

Comment Request for Information Collection for Unemployment Insurance Call Center Final Assessment Guide, New Collection

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Unemployment Insurance (UI) Call Center Operations and Technologies in each State. This Assessment Guide was developed to assist the Department in conducting a study of all 53 States' UI Call Centers (including District of Columbia, Puerto Rico and the Virgin Islands), accomplished by an analysis of study findings by Coffey Consulting, LLC, contractor to ETA. The analysis report will be based on the telephone interviews conducted with the States.

DATES: Submit written comments to the office listed in the addresses section below on or before August 31, 2015.

ADDRESSES: Send written comments to Jeffery B. Haluska, Office of Unemployment Insurance, Room S-4524, Employment and Training Administration, U.S. Department of Labor, 200 Constitution Avenue NW., Washington, DC 20210. Telephone number: 202-693-2992 (this is not a toll-free number). Individuals with hearing or speech impairments may access the telephone number above via TTY by calling the toll-free Federal Information Relay Service at 1-877-889-5627 (TTY/TDD). Email: Haluska.Jeffery.B@dol.gov. To obtain a copy of the proposed information collection request (ICR), please contact the person listed above.

SUPPLEMENTARY INFORMATION:

I. Background

The UI Call Center Final Assessment Guide will be used to conduct and collect information via individual telephone interviews with each of the 53 States, through the assistance of the Department's contractor, Coffey Consulting, LLC. The assessment will collect information to help in the development of an analysis and report on how States use call center operations in support of their UI programs and to identify successful practices that can be shared with all States.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New collection.

Title: Unemployment Insurance Call Center Final Assessment Guide.

OMB Number: 1205-0NEW.

Affected Public: State Workforce Agencies.

Estimated Total Annual Respondents: 53.

Annual Frequency: Once.

Estimate Total Annual Responses: 53.

Average Time per Response: 150 minutes.

Estimated Total Annual Burden Hours: 132.5 hours.

Total Estimated Annual Other Cost Burden: $0.

We will summarize and/or include in the request for OMB approval of the ICR, the comments received in response to this comment request; they will also become a matter of public record.

Portia Wu,
Assistant Secretary for Employment and Training, Labor.

[FR Doc. 2015-16321 Filed 7-1-15; 8:45 am]

BILLING CODE 4510-FW-P